DEPARTMENT OF COMMERCE

Foreign-Trade Zones Board

[Docket 22-2011]

Foreign-Trade Zone 177—Evansville, IN; Application for Manufacturing Authority, Best Chair, Inc. d/b/a Best Home Furnishings, (Upholstered Furniture), Ferdinand, Cannelton, and Paoli, IN

A request has been submitted to the Foreign-Trade Zones Board (the Board) by the Ports of Indiana, grantee of FTZ 177, requesting manufacturing authority on behalf of Best Chair, Inc. d/b/a Best Home Furnishings (Best Home), to manufacture upholstered furniture and related parts under FTZ procedures within FTZ 177. The application was submitted pursuant to the provisions of the Foreign-Trade Zones Act, as amended (19 U.S.C. 81a-81u), and the regulations of the Board (15 CFR part 400). It was formally filed on March 17, 2011.

The Best Home facilities (815 employees) will be located within the FTZ 177 service area at three planned sites: Site 5—at 1 Best Drive in Ferdinand (Dubois County), Indiana; Site 6—at 4502 East State Road 66, Cannelton (Perry County), Indiana; and, Site 7—at 1700 West Willow Creek Road, Paoli (Orange County), Indiana (Orange County to be included within expanded ASF service area, as proposed — Doc. 3-2011, 76 FR 1133, 1-7-2011). The facilities are used to produce upholstered furniture (up to 1.5 million sofas, sectionals, loveseats, chairs, and recliners annually) and cut-and-sewn upholstery covers for the U.S. market and export. The application proposes that Best Home utilize foreign-origin “micro-denier suede” fabric to be cut and sewn into furniture upholstery covers under FTZ procedures. The finished upholstery covers (HTSUS 9401.90; duty free) would then be assembled into finished sofas, sectionals, loveseats, chairs, and recliners manufactured by Best Home at its Indiana facilities.

The proposed scope of authority under FTZ procedures would only involve duty savings on foreign-origin, micro-denier suede fabrics (classified under HTSUS Headings 5407, 5512, 5515, 5516, 5903, 5906, 6001, 6005, 6006; duty rate range: 2.7-17.2%) finished with a caustic soda wash process, which the applicant indicates are not produced by U.S. mills. The application indicates that Best Home does not seek FTZ benefits on any of the other foreign fabrics the company uses in production at the facilities (i.e., full duties would be paid on all such fabrics). All other material inputs used in the proposed manufacturing activity would be domestic status.

FTZ procedures would exempt Best Home from customs duty payments on the foreign micro-denier suede fabric used in export production. On micro-denier suede fabric used in production for the U.S. market, the company could elect the finished upholstery cover (i.e., furniture part) duty rate (free) after the fabric has been cut, sewn, and formed into upholstery covers, at which time they are entered for consumption from the zone. Best Home would also have the option to elect the finished furniture duty rate (free) for the subject fabric when the finished furniture is entered for domestic consumption. The application indicates that the savings from FTZ procedures would help improve the facilities' international competitiveness.

In accordance with the Board's regulations, Pierre V. Duy of the FTZ Staff is designated examiner to evaluate and analyze the facts and information presented in the application and case record and to report findings and recommendations to the Board.

Public comment is invited from interested parties. Submissions (original and 3 copies) shall be addressed to the Board's Executive Secretary at the address below. The closing period for receipt of comments is May 23, 2011. Rebuttal comments in response to material submitted during the foregoing period may be submitted during the subsequent 15-day period to June 6, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Pierre V. Duy at Pierre.Duy@trade.gov or (202) 482-1378.

Dated: March 17, 2011.
Pierre V. Duy,
Acting Executive Secretary.

[FR Doc. 2011-6882 Filed 3-22-11; 8:45 am]

BILLING CODE P